DEPARTMENT OF TRANSPORTATION

Surface Transportation Board

[STB Finance Docket No. 34058 (Sub-No. 1)]

Union Pacific Railroad Co.—Trackage Rights Exemption—The Burlington Northern and Santa Fe Railway Co.

AGENCY: Surface Transportation Board, DOT.

ACTION: Notice of exemption.

SUMMARY: The Board, under 49 U.S.C. 10502, exempts the trackage rights described in STB Finance Docket No. 34058 ¹ to permit the trackage rights to expire, as they relate to the operations extending from Pasco, WA, to Spokane, WA, on September 4, 2001.

¹ On June 18, 2001, UP concurrently filed a notice of exemption under the Board's class exemption procedures at 49 CFR 1180.2(d)(7). The notice covered the trackage rights agreement (agreement) by The Burlington Northern and Santa Fe Railway Company (BNSF) to grant temporary overhead trackage rights to UP over 136.5 miles of BNSF trackage extending from BNSF milepost 2.7, near Pasco, WA, to BNSF milepost 11.8, near Spokane, WA. See Union Pacific Railroad Company—Trackage Rights Exemption—The Burlington Northern and Santa Fe Railway Company, STB Finance Docket No. 34058 (STB served June 29, 2001). The agreement is scheduled to expire on September 4, 2001. The trackage rights operations under the exemption were scheduled to be consummated on June 26, 2001.

DATES: This exemption is effective on September 15, 2001. Petitions to reopen must be filed by September 5, 2001.

ADDRESSES: An original and 10 copies of all pleadings referring to STB Finance Docket No. 34058 (Sub-No. 1) must be filed with the Surface Transportation Board, Office of the Secretary, Case Control Unit, 1925 K Street, NW., Washington, DC 20423-0001. In addition, a copy of all pleadings must be served on petitioner's representative Robert T. Opal, Esq., Union Pacific Railroad Company, 1416 Dodge Street, Room 830, Omaha, NE 68179.

FOR FURTHER INFORMATION CONTACT: Joseph H. Dettmar, (202) 565-1600. [TDD for the hearing impaired: 1 (800) 877-8339.]

SUPPLEMENTARY INFORMATION: Additional information is contained in the Board's decision. To purchase a copy of the full decision, write to, call, or pick up in person from: Dā to Dā Office Solutions, Suite 405, 1925 K Street, NW., Washington, DC 20006. Telephone: (202) 293-7776. [Assistance for the hearing impaired is available through TDD services 1 (800) 877-8339.]

Board decisions and notices are available on our website at www.stb.dot.gov.

Decided: July 6, 2001.
By the Board, Chairman Morgan, Vice Chairman Clyburn, and Commissioner Burkes.
Vernon A. Williams,
Secretary.

[FR Doc. 01-17708 Filed 7-13-01; 8:45 am]

BILLING CODE 4915-00-P